ENVIRONMENTAL PROTECTION AGENCY

[EPA-HQ-OLEM-2022-0440; FRL-10202-01-OMS]

Information Collection Request Submitted to OMB for Review and Approval; Comment Request; Gathering Data on Results of Annual and Triennial Testing To Evaluate the Impacts of EPA's 2015 Federal Underground Storage Tank Regulation

AGENCY: Environmental Protection Agency (EPA).

ACTION: Notice.

SUMMARY: The Environmental Protection Agency has submitted an information collection request (ICR), Gathering Data on Results of Annual and Triennial Testing to Evaluate the Impacts of EPA's 2015 Federal Underground Storage Tank Regulation (EPA ICR Number 2650.02, OMB Control Number 2050-NEW) to the Office of Management and Budget (OMB) for review and approval in accordance with the Paperwork Reduction Act. This is a request for approval of a new collection. Public comments were previously requested via the Federal Register on June 2, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 11, 2022.

ADDRESSES: Submit your comments, referencing Docket ID Number EPA- HQ-OLEM-2022-0440, online using www.regulations.gov (our preferred method), or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Elizabeth McDermott, Prevention Division, Office of Underground Storage Tanks, (Mail Code 5401R), Environmental Protection Agency, 1200 Pennsylvania Ave. NW, Washington, DC 20460; telephone number: 202-564-0646; email address: McDermott.Elizabeth@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection request will allow EPA to employ a contractor to compile data from private companies providing compliance testing to owners of federally regulated underground storage tank systems (USTs). The completed dataset of test results will allow EPA to evaluate the effectiveness of several of the newly required measures to prevent fuel releases included in the 2015 federal UST regulation: spill containment liquid tightness testing, containment sump liquid tightness testing (for containment sumps used for interstitial monitoring of piping of single-wall construction), overfill equipment inspections, and two types of annual leak detection equipment testing. EPA is interested in quantitatively assessing if passing rates improve between initial and subsequent rounds of testing in the 15 states from which data will be collected. EPA will use the data to identify if, and by how much, testing required by the regulation impacts equipment performance over time. EPA will use this information to enhance national UST program performance. EPA will share the information gathered from this collection with all state implementing agencies, who could use the results to better inform their future regulations, policies, and guidance for preventing UST releases. Sharing this information will help states implement their programs better, which will help EPA execute national UST program goals and better protect human health and the environment.

Form Numbers: None.

Respondents/affected entities: UST testing and compliance companies, UST facility owners and operators.

Respondent's obligation to respond: Voluntary.

Estimated number of respondents: 60.

Frequency of response: One-time collection.

Total estimated burden: 1,275 hours per year. Burden is defined at 5 CFR 1320.03(b).

Total estimated cost: $53,398.75 (per year), includes $0 annualized capital or operation & maintenance costs.

Changes in the Estimates: This is a request for a new collection.

Courtney Kerwin,
Director, Regulatory Support Division.

[FR Doc. 2022-19529 Filed 9-8-22; 8:45 am]

BILLING CODE 6560-50-P